ENVIRONMENTAL PROTECTION AGENCY

[EPA-HQ-OPP-2006-0243; FRL-9374-1]

1-Methyl-3,5,7-Triaza-1-Azoniatricyclodecane Chloride (Busan1024); Amendment To Terminate Uses

AGENCY: Environmental Protection Agency (EPA).

ACTION: Notice.

SUMMARY: This notice announces EPA's order for the amendment to terminate uses, voluntarily requested by the registrant and accepted by the Agency, of products containing the pesticide, Busan 1024, pursuant to the Federal Insecticide, Fungicide, and Rodenticide Act (FIFRA). This cancellation order follows an August 13, 2008 Federal Register Notice of Receipt of Request for Amendments to Delete Uses from the registrant listed in Table 2, to voluntarily amend to terminate uses of this product registration. This is the last product containing this pesticide registered for use in the United States. In the August 13, 2008 notice, EPA indicated that it would issue an order implementing the amendment to terminate uses, unless the Agency received substantive comments within the 30-day comment period that would merit its further review of this request, or unless the registrant withdrew the request within this period. The Agency did not receive any comments on the notice. Further, the registrant did not withdraw the request. Accordingly, EPA hereby issues in this notice a cancellation order granting the requested amendment to terminate uses. Any distribution, sale, or use of the products subject to this cancellation order is permitted only in accordance with the terms of this order, including any existing stocks provisions.

DATES: The cancellations are effective January 9, 2013.

FOR FURTHER INFORMATION CONTACT: Elizabeth Hernandez, Antimicrobials Division (7510P), Office of Pesticide Programs, Environmental Protection Agency, 1200 Pennsylvania Ave. NW., Washington, DC 20460-0001; telephone number: (703) 347-0241; fax number: (703) 308-6467; email address: hernandez.elizabeth@epa.gov.

SUPPLEMENTARY INFORMATION:

I. General Information

A. Does this action apply to me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action.

B. How can i get copies of this document and other related information?

The docket for this action, identified by docket identification (ID) number EPA-HQ-OPP-2006-0243, is available at http://www.regulations.gov or at the Office of Pesticide Programs Regulatory Public Docket (OPP Docket) in the Environmental Protection Agency Docket Center (EPA/DC), EPA West Bldg., Rm. 3334, 1301 Constitution Ave. NW., Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. What action is the agency taking?

This notice announces the amendment to terminate uses, as requested by the registrant, of a product registered under FIFRA section 3. This registration is listed in Table 1 of this unit.

Table 1—1-Methyl-3,5,7-Triaza-1-Azoniatricyclodecane Chloride (Busan1024) Product Cancellation
EPA Registration No. | Product name | Company | Uses to be terminated
1448-92 | Busan 1024 | Buckman Laboratories, Inc | Laundry starch, petroleum production and recovery, textiles, papermaking chemicals and coatings, metalworking fluids.

Table 2 of this unit includes the name and address of record for the registrant of the product in Table 1 of this unit.

Table 2—Registrant of Cancelled and/or Amended Product
EPA Company No. | Company name and address
1448 | Buckman Laboratories, Inc. 1256 North McLean Blvd. Memphis, TN 38134.

III. Summary of Public Comments Received and Agency Response to Comments

During the public comment period provided, EPA received no comments in response to the August 13, 2008 Federal Register notice announcing the Agency's receipt of the request for voluntary amendment to terminate uses of Busan 1024.

IV. Cancellation Order

Pursuant to FIFRA section 6(f), EPA hereby approves the requested amendment to terminate uses of 1-Methyl-3,5,7-Triaza-1-Azoniatricyclodecane Chloride (Busan 1024) registration identified in Table 1 of Unit II. Accordingly, the Agency orders that the product registration identified in Table 1 of Unit II. is hereby amended to terminate the affected uses. Any distribution, sale, or use of existing stocks of the product identified in Table 1 of Unit II. in a manner inconsistent with any of the Provisions for Disposition of Existing Stocks set forth in Unit VI. will be considered a violation of FIFRA.

V. What is the agency's authority for taking this action?

Section 6(f)(1) of FIFRA provides that a registrant of a pesticide product may at any time request that any of its pesticide registrations be canceled or amended to terminate one or more uses. FIFRA further provides that, before acting on the request, EPA must publish a notice of receipt of any such request in the Federal Register. Thereafter, following the public comment period, the Administrator may approve such a request.

VI. Provisions for Disposition of Existing Stocks

The Agency has authorized the registrants to sell or distribute product under the previously approved labeling for a period of 12 months after approval of the revision, unless other restrictions have been imposed, as in special review actions.

EPA's existing stocks policy (56 FR 29362) provides that: “If a registrant requests to voluntarily cancel a registration where the Agency has identified no particular risk concerns, the registrant has complied with all applicable conditions of reregistration, conditional registration, and data call ins, and the registration is not subject to a Registration Standard, Label Improvement Program, or reregistration decision, the Agency will generally permit a registrant to sell or distribute existing stocks for 1 year after the cancellation request was received. Persons other than registrants will generally be allowed to sell, distribute, or use existing stocks until such stocks are exhausted.”

Existing stocks are those stocks of registered pesticide products which are currently in the United States and which were packaged, labeled, and released for shipment prior to the effective date of the cancellation action. The effective date of this cancellation is January 9, 2013. The cancellation order that is the subject of this notice includes the following existing stock provisions:

The registrant may sell and distribute existing stocks of the product listed in Table 1 until January 9, 2014. Persons other than the registrant may sell and distribute existing stocks of the product listed in Table 1 until exhausted. Use of the product listed in Table 1 may continue until existing stocks are exhausted, provided that such use is consistent with the terms of the previously approved labeling on, or that accompanied, the canceled product.

List of Subjects

Environmental protection, Pesticides and pests, Busan 1024, 1-Methyl-3,5,7-Triaza-1-Azoniatricyclodecane Chloride.

Dated: December 18, 2012.
Jennifer McLain,
Acting Director, Antimicrobials Division, Office of Pesticide Programs.

[FR Doc. 2013-00265 Filed 1-8-13; 8:45 am]

BILLING CODE 6560-50-P